DEPARTMENT OF HOMELAND SECURITY

Coast Guard

[USCG-2004-19167]

Statutory Monetary Civil Penalty Increase for Bridge Violations

AGENCY: Coast Guard, DHS.

ACTION: Notice.

SUMMARY: This notice is to inform the public that on August 9, 2004, President Bush signed the Coast Guard and Maritime Transportation Act of 2004 which, in part, increases the monetary civil penalty amount the Coast Guard can levy for a violation of bridge regulations and statutes.

FOR FURTHER INFORMATION CONTACT: If you have questions on this notice, call Chris Jaufmann, Coast Guard, telephone 202-267-0368.

SUPPLEMENTARY INFORMATION: 33 U.S.C 495(b), 499(c), 502(c), and 533(b), authorizes assessing penalties for violations of bridge regulations found in 33 CFR parts 115, 116, 117, and 118. The maximum penalty amount that could be levied per bridge violation per day was $1,000. In 1997, the maximum penalty amount was raised to $1,100 to adjust for inflation.

On August 9, 2004 President Bush signed the Coast Guard and Maritime Transportation Act of 2004 into law. (Pub. L. 108-293) section 601 of this act, raises the maximum civil penalty amount that the Coast Guard can levy per bridge violation per day from $1,100 to $5000 for the remainder of 2004. The Act then raises that amount by $5000 increments at the start of each calendar year until 2008 when the maximum amount allowed per violation per day will be $25,000. Thus, the penalty is $5,000 for a violation occurring in 2004; $10,000 for a violation occurring in 2005; $15,000 for a violation occurring in 2006; $20,000 for a violation occurring in 2007; and $25,000 for a violation occurring in 2008 and every year after that. This increase took effect immediately upon signature.

Dated: September 20, 2004.
N.E. Mpras,
Chief, Office of Bridge Administration.

[FR Doc. 04-21527 Filed 9-23-04; 8:45 am]

BILLING CODE 4910-15-P